DEPARTMENT OF TRANSPORTATION

Federal Highway Administration

[Docket No. FHWA-2025-0335]

Request for Information on Expediting Delivery of the American Legion Memorial Bridge

AGENCY: Federal Highway Administration (FHWA), U.S. Department of Transportation (DOT).

ACTION: Notice; request for information (RFI).

SUMMARY: FHWA invites public input and proposals on innovative project delivery methods to ensure cost-effective and efficient reconstruction of the American Legion Memorial Bridge (the Bridge) connecting Montgomery County, Maryland and Fairfax County, Virginia and the Interstate 495 (I-495) & Interstate 270 (I-270) Managed Lane Project.

DATES: Comments must be received on or before February 9, 2026. Late-filed comments will be considered to the extent practicable.

ADDRESSES: To ensure you do not duplicate your docket submissions, please submit comments by only one of the following means:

• Federal eRulemaking Portal: Go to www.regulations.gov and follow the online instructions for submitting comments.

• Mail: Docket Management Facility, U.S. Department of Transportation, 1200 New Jersey Avenue SE, West Building Ground Floor, Room W12-140, Washington, DC 20590;

• Hand Delivery: West Building Ground Floor, Room W12-140, 1200 New Jersey Avenue SE, Washington, DC 20590, between 9 a.m. and 5 p.m. E.T., Monday through Friday, except Federal holidays. The telephone number is (202) 366-9329.

• Instructions: You must include the agency name and docket number at the beginning of your comments. Except as described below under the heading “Confidential Business Information,” all submissions received, including any personal information provided, will be posted without change or alteration to www.regulations.gov. For more information, you may review the U.S. Department of Transportation's complete Privacy Act Statement published in the Federal Register on April 11, 2000 (65 FR 19477).

FOR FURTHER INFORMATION CONTACT: For questions about this notice, please contact Brian Hogge, FHWA Office of Infrastructure, (334) 399-0081, or via email at brian.hogge@dot.gov. For legal questions, please contact Mariya Tikhonova, FHWA Office of the Chief Counsel, (202) 366-1356, or via email at mariya.tikhonova@dot.gov. Office hours for FHWA are from 8:00 a.m. to 4:30 p.m., E.T., Monday through Friday, except Federal holidays.

SUPPLEMENTARY INFORMATION:

Electronic Access and Filing

A copy of this notice, all comments received on this notice, and all background material may be viewed online at www.regulations.gov using the above listed docket number. Electronic retrieval assistance and guidelines are also available at www.regulations.gov. An electronic copy of this document may also be downloaded from the Office of the Federal Register's website at: www.FederalRegister.gov and the U.S. Government Publishing Office's website at: www.GovInfo.gov.

Confidential Business Information

Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important for you to clearly designate the submitted comments as CBI.

You may ask FHWA to give confidential treatment to information you give to the Agency by taking the following steps: (1) mark each page of the original document submission containing CBI as “Confidential”; (2) send FHWA, along with the original document, a second copy of the original document with the CBI deleted; and (3) explain why the information you are submitting is CBI. FHWA will protect confidential information, complying with the CBI requirements to the extent required under applicable law. If DOT receives a FOIA request for the information the applicant has marked in accordance with this notice, DOT will follow the procedures described in its FOIA regulations at 49 CFR 7.29. Only information marked in accordance with this notice and ultimately determined to be exempt from disclosure under FOIA and 49 CFR 7.29 will not be released to a requester or placed in the public docket of this notice. Submissions containing CBI should be sent to: Mr. Brian Hogge, FHWA, 1200 New Jersey Avenue SE, Washington, DC 20590, via mail or brian.hogge@dot.gov via email. Any comment submissions FHWA receives that are not specifically designated as CBI will be placed in the public docket for this matter.

Purpose

The I-495 & I-270 Managed Lane Project is designed to address severe, worsening congestion throughout this vital interstate corridor serving the National Capital Region, which is the most congested region in the nation based on annual delay and congestion per auto commuter. I-495 west of I-270 had an Average Annual Daily Traffic (AADT) of 255,000 vehicles per day and I-270 had an AADT over 265,000 vehicles per day in 2019. The I-495 & I-270 corridor functions as the primary east coast bypass for long-distance travelers on I-95. The Project will feature express toll lanes in addition to the free general purpose lanes. Virginia's I-495 Express Lanes Northern Extension project will extend the existing Express Lanes on I-495 in Virginia by approximately three miles to the American Legion Memorial Bridge. In 2019, Maryland and Virginia announced a “Capital Beltway Accord” that worked in a bipartisan fashion to build express lanes into Maryland. The pervasive congestion across the entire I-495 & I-270 corridor complicates daily trips, causes chronic delays, and increases safety risks and costs for all users.

The American Legion Memorial Bridge is the most significant bottleneck in the I-495 & I-270 corridor. As a nationally significant connector, the severe congestion on the Bridge and its approaches affects the normal everyday life of the traveling public and imposes additional costs and delays to the flow of commerce. For local commuters, it is a daily struggle to traverse the American Legion Memorial Bridge, requiring the need to build in additional time for commutes, face the uncertainty of unanticipated delays, and navigate various safety challenges. In addition, the location of the Bridge in serving our nation's capital, a thriving metropolitan area attracting a mix of other drivers including Federal and military personnel, diplomatic and international drivers, tourists, and other visitors, poses its own unique challenges in terms of managing congestion. On the freight side, both short-haul and long-haul freight operations are impeded by congestion leading to costly delays in meeting delivery schedules, unnecessary wear on both drivers and equipment, and again, safety challenges associated with competing traffic. Whether a driver is commuting to their office, transporting goods, visiting friends or family, or simply traveling through the area enroute to another place, congestion on the American Legion Memorial Bridge is complicating the trip, causing delays, and increasing safety risks and costs.

This RFI is an invitation to assist in identifying or proposing solutions or ideas to best advance bridge reconstruction, and ensure reconstruction advances safety, mobility, and technological innovation on the American Legion Memorial Bridge. The purpose is to enable interested stakeholders to provide input, submit proposals, facilitate dialogue, and galvanize action towards resolving a serious transportation challenge on the national transportation network. Ideas can be broad in nature, or specific actions such as project proposals or engineering solutions. Although FHWA does not own the American Legion Memorial Bridge, in its responsibility to ensure America's roads and highways remain safe and technologically sound, it is compelled to initiate this exercise and will share submissions with the Maryland Department of Transportation (MDOT) for consideration.

Background

Decades of rapid population growth and surging travel demand have transformed the American Legion Memorial Bridge into one of the Nation's most congested and freight-critical crossings. Since the Bridge was last improved in 1992, Fairfax and Montgomery Counties combined have added more than half a million residents, placing extraordinary strain on this key connection.

The American Legion Memorial Bridge connects two major population centers in Maryland and Virginia along I-495. It is a crucial connector for transportation needs in the National Capital Region, including access to jobs and essential services. It is also a nationally significant connector for interstate commerce. The American Legion Memorial Bridge is the only high-volume crossing between Montgomery County, Maryland and Fairfax County, Virginia. It is also the only major crossing between Maryland and Virginia between the Point of Rocks Bridge, more than 30 miles (50 km) upstream, and the Chain Bridge downstream between Virginia and the District of Columbia. The Bridge is also one of the two locations at which the Capital Beltway crosses the Potomac River. The other crossing is the Woodrow Wilson Memorial Bridge, both spans of which were replaced with the Inner Loop span being open to traffic in 2008.

The American Legion Memorial Bridge now carries an AADT of over 216,000 vehicles and 21,400 heavy trucks per day, and peak commuting speeds frequently fall to roughly 15 miles per hour. Congestion at the Bridge is prolonged and recurring, which translates directly into measurable costs. Several converging pressures make timely action urgent:

• Growing demand and constrained capacity: The National Capital Region continues to grow in both population and employment. Over the next 25 years, the Metropolitan Washington Council of Governments projects a 23 percent increase in population (adding approximately 1.3 million residents) and a 29 percent increase in jobs, or about 1 million additional positions. Traffic volumes at the American Legion Memorial Bridge are already at or above the original design capacity during peak periods. Without modernization, continued regional growth will only magnify delay and unreliability.

• Bottleneck network impacts: The corridor is identified on the 2024 National List of Major Freight Highway Bottlenecks and Congested Corridors, with an estimated annual congestion cost due to truck delay of $43 million. Several major routes converge onto I-495 at the American Legion Memorial Bridge, concentrating regional traffic demand. When capacity is exceeded, the Bridge operates as a critical choke point, generating delays that ripple throughout the regional highway network rather than remaining localized to the crossing.

• Economic and freight significance: I-495 is a Tier-1 corridor within the Regionally Significant Highway Freight Network for the National Capital Region. Freight-dependent industries (transportation, wholesale and retail trade, manufacturing support) represent a major component of the regional economy, collectively contributing about 19 percent of the region's Gross Domestic Product (over $660 billion in 2022). Recurring congestion along this high-volume freight corridor drives up business operating costs, reduces economic competitiveness, and ultimately increases costs for consumers.

As part of its broader I-495 and I-270 Managed Lanes Study, the State of Maryland seeks to fully replace the more than 60-year-old bridge. As stated in the June 17, 2022, Final Environmental Impact Statement (FEIS) and in the Record of Decision (ROD) issued on August 25, 2022, the reconstruction is expected to relieve congestion, and improve reliability and roadway performance.

FHWA is committed to improving safety and mobility on our nation's highways through national leadership, innovation, and program delivery. Through financial and technical assistance to State and local governments, FHWA helps ensure America's roads and highways are among the safest and most technologically sound in the world. To this end, FHWA seeks public input on how to best advance bridge reconstruction, and ensure reconstruction advances safety, mobility, and technological innovation.

As noted in the FEIS, the State does not possess the necessary revenue to independently fund replacement of the Bridge, nor to obtain the requisite bonding capacity. These challenges have held up construction on the project. So, to assist in cost-effective delivery of this regionally significant project, FHWA requests public input on innovative project delivery methods to ensure the project is constructed to the highest safety standards and without any further delay. Public-private partnerships (P3) help address public funding constraints by enabling projects to be financed over longer periods, transferring appropriate risks to the private sector, reducing lifecycle costs through private-sector efficiencies, and leveraging private capital to support upfront construction. Secretary Duffy has emphasized a commitment to making the United States the world's leading destination for private infrastructure investment. Collaboration with the private sector also introduces additional due diligence and diversifies funding sources, enhancing both accountability and project delivery.

As the ROD was issued in August 2022, FHWA is not seeking public input on environmental impacts of bridge reconstruction. Instead, this RFI is seeking public input on innovative project delivery approaches to accelerate reconstruction, the level of industry interest and capabilities, and how congestion affects travel, safety, and economic activity.

Nature of Information Request

This RFI is being conducted to inform and develop ideas, thoughts, and proposals on how to best advance bridge reconstruction, and ensure reconstruction advances safety, mobility, and technological innovation on the American Legion Memorial Bridge. FHWA's goal is to solicit information to assist FHWA's internal reviews of the issue and to provide the same to MDOT, the owner of the Bridge, for further consideration. FHWA may use this information to assist, inform, and identify solutions to one of the worst bottlenecks in the Nation. Specifically, the information will be used by FHWA to:

• Obtain information and data to better understand the congestion-related impacts across the spectrum of the traveling public and residents.

• Collect statements of interest and capabilities from qualified industry partners capable of addressing these issues.

• Learn more about potential designs or business proposals which would address the issue.

• Solicit feedback on the public's interest in the use of private-sector partnerships and support.

• Gather cost and timeline information associated with these solutions.

Request for Comments and Information

FHWA requests information from the public on innovative project proposals and delivery methods to support the timely and efficient reconstruction of the American Legion Memorial Bridge and the I-495 & I-270 Managed Lane Project to the highest safety standards and without any further delay. FHWA is also seeking information on the impact of increasing congestion and project delivery delays on individuals, businesses, and communities. Questions #1-5 are focused on the American Legion Memorial Bridge. Question #6 is about the I-495 & I-270 Managed Lane Project.

When providing this information, FHWA requests that all respondents clearly identify: the respondent type (individual, business, public agency, non-profit, etc.); any relevant geographic area affected; and supporting data where available. Please include any relevant rendering, designs, or descriptions to provide additional clarity.

1. General Questions

a. What are the primary challenges or barriers preventing completion of the American Legion Memorial Bridge reconstruction?

b. What specific actions, project proposals, or strategies could help accelerate project delivery of the American Legion Memorial Bridge reconstruction?

c. What additional support, resources, or coordination would help advance the American Legion Memorial Bridge reconstruction to completion?

2. Innovative Project Delivery Methods To Accelerate Reconstruction

a. What innovative delivery mechanisms, such as P3s, could be applied to accelerate the American Legion Memorial Bridge reconstruction to minimize short-term and long-term financial burden on taxpayers?

b. What potential revenue sources could be generated to cover all or part of the project's costs?

c. If the American Legion Memorial Bridge reconstruction is not delivered via P3, which alternative contracting methods (e.g., design-build, construction manager/general contractor, progressive design-build) are best suited to accelerate delivery while achieving safety and quality standards for this project?

d. What accelerated construction methods (e.g., precast concrete systems, slide-in bridge replacement, prefabricated bridge elements and systems) could be applied to minimize lane closures and maximize safety?

e. Are there other projects in other States which can be used as a helpful case study or reference point?

f. What is a reasonable amount of time and cost for a project of this size and complexity?

3. Industry Interest and Capabilities

a. What industry qualifications and experiences would be helpful in taking on a project at this level?

b. Are there specific companies or industries which are well-equipped to take on projects at this level?

c. If a specific company is interested, please submit: company name and address; link to the company website (if applicable); and points of contact including telephone number and email address.

d. What steps can be taken to enhance competition and deliver better value for taxpayers?

4. Impacts of Congestion

a. How has congestion around the American Legion Memorial Bridge affected your daily commute, fuel consumption, travel time, and reliability?

b. Has the congestion around the American Legion Memorial Bridge affected your stress levels, health, and overall quality of life?

c. Has the congestion caused a loss of leisure time or otherwise reduced the amount of time spent with friends, family, hobbies, or rest?

d. What direct and indirect economic impacts have you observed (e.g., reduced productivity, increased freight or delivery costs, missed appointments or shipments, lost sales, increased vehicle operating costs)?

e. Which travel patterns (work-based trips, school routes, emergency services, chores, errands) are most disrupted by the congestion?

f. Are there specific days, times, or circumstances in which the congestion is acutely observed?

g. What kind of wear and tear on your vehicle have you had to address as a result of the congestion?

h. In your experience, how effectively do managed lanes (like Express Lanes or managed lanes) reduce overall traffic congestion and improve reliability on the corridor?

5. Project Proposals

a. Interested parties are invited to submit proposals that would advance bridge reconstruction, and ensure such reconstruction advances safety, mobility, and technological innovation. Such proposals need only be general concepts. Any proposals submitted to FHWA will be used for the purpose of informing and developing ideas, thoughts, and proposals on how to best advance bridge reconstruction. In addition, any such proposals will be shared with MDOT for consideration.

6. I-495 & I-270 Corridor

a. What are the most significant challenges or barriers preventing the timely completion of the I-495 & I-270 Managed Lane Project?

b. What specific actions, project proposals, or strategies could be implemented to accelerate delivery of the I-495 & I-270 Managed Lane Project?

c. What additional support, resources, or coordination would help to advance the I-495 & I-270 Managed Lane Project to completion?

d. What innovative project delivery methods are best suited to accelerate the completion of the I-495 & I-270 Managed Lane Project?

e. What is the industry interest and capacity to undertake a project of the scale and complexity of the I-495 & I-270 Managed Lane Project?

f. What other impacts does congestion on the I-495 & I-270 corridor cause?

Timeline and Delivery of Submittal

Submittals should be submitted within 60 days after this announcement is published in the Federal Register. FHWA may request additional clarification to responses directly related to this RFI through direct contact with respondents.

Sean McMaster,
Administrator, Federal Highway Administration.

[FR Doc. 2025-22506 Filed 12-10-25; 8:45 am]

BILLING CODE 4910-22-P